DEPARTMENT OF EDUCATION

National Mathematics Advisory Panel

AGENCY: U.S. Department of Education, National Mathematics Advisory Panel.

ACTION: Notice of open meeting.

SUMMARY: This notice sets forth the schedule and proposed agenda of an upcoming meeting, including a public hearing, with members of the National Mathematics Advisory Panel. The notice also describes the functions of the Panel. Notice of this meeting is required by section 10(a)(2) of the Federal Advisory Committee Act and is intended to notify the public of their opportunity to attend. Due to scheduling difficulties, this notice is appearing in the Federal Register less than 15 days prior to the meeting date.

DATES: Thursday, March 13, 2008.

Time: 9 a.m.-10:45 a.m.

ADDRESSES: Longfellow Middle School, 2000 Westmoreland Street, Falls Church, Virginia 22043.

FOR FURTHER INFORMATION CONTACT: Tyrrell Flawn, Executive Director, National Mathematics Advisory Panel, 400 Maryland Avenue, SW., Washington, DC 20202; telephone: (202) 260-8354.

Individuals who use a telecommunications device for the deaf (TDD) may call the Federal Information Relay Service (FRS) at 1-800-877-8339.

SUPPLEMENTARY INFORMATION: The Panel was established by Executive Order 13398. The purpose of this Panel is to foster greater knowledge of and improved performance in mathematics among American students, in order to keep America competitive, support American talent and creativity, encourage innovation throughout the American economy, and help State, local, territorial, and tribal governments give the nation's children and youth the education they need to succeed.

The meeting will be held at the Longfellow Middle School in Falls Church, Virginia, on Thursday, March 13, 2008, 9 a.m.-10:45 a.m. The purpose of this open meeting is for the Panel to complete its work and to adopt the Final Report, which will, at a minimum, contain recommendations on improving mathematics education based on the best available scientific evidence. Individuals interested in attending the meeting are advised to register in advance to ensure space availability. Please contact Jennifer Graban at Jennifer.Graban@ed.gov by Wednesday, March 5, 2008.

This meeting will not include a public comment session, as the Panel will be adopting its Final Report. However, if you would like to provide comments to the Panel, please do so in written form, via e-mail at NationalMathPanel@ed.gov by Wednesday, March 5, 2008. Written comments will also be accepted at the meeting site. Please note that comments submitted to the National Mathematics Advisory Panel in any format are considered to be part of the public record of the Panel's deliberations, and will be posted on the Web site.

The Panel has submitted its Preliminary Report to the President, through the U.S. Secretary of Education. The Preliminary Report is available at http://www.ed.gov/mathpanel.

The meeting site is accessible to individuals with disabilities. Individuals who will need accommodations in order to attend the meeting, such as interpreting services, assistive listening devices, or materials in alternative format, should notify Jennifer Graban at Jennifer.Graban@ed.gov no later than Wednesday, March 5, 2008. We will attempt to meet requests for accommodations after this date, but cannot guarantee their availability.

Records are kept of all Panel proceedings and are available for public inspection at the staff office for the Panel, from the hours of 9 a.m. to 5 p.m., Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Dated: February 29, 2008.
Margaret Spellings,
Secretary, U.S. Department of Education.

[FR Doc. E8-4319 Filed 3-5-08; 8:45 am]

BILLING CODE 4000-01-P